DEPARTMENT OF TRANSPORTATION

Coast Guard

33 CFR Part 165

[CGD13-00-011]

RIN 2115-AA97

Safety Zone; Fireworks Display, Columbia River, Astoria, Oregon

AGENCY: Coast Guard, DOT.

ACTION: Temporary final rule.

SUMMARY: The Coast Guard is establishing a temporary safety zone on the waters of Columbia River in the vicinity of Astoria, Oregon. This safety zone is being created in response to a July 4, 2001, evening fireworks display. The Coast Guard is taking this action to safeguard watercraft and their occupants from safety hazards associated with the fireworks display.

DATES: This regulation is effective from 9 p.m. (PDT) to 11 p.m. (PDT) on July 4, 2001.

ADDRESSES: Comments and material received from the public, as well as documents indicated in this preamble as being available in the docket, will be available for inspection or copying at the U.S. Coast Guard Group/MSO Portland, 6767 N. Basin Ave, Portland, Oregon 97217, between 7 a.m. and 4 p.m., Monday through Friday, except Federal holidays.

FOR FURTHER INFORMATION CONTACT: Lieutenant Commander William Clark, (503) 240-9317.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Publishing a NPRM would be contrary to public interest since immediate action is necessary to ensure the safety of vessels and spectators gathering in the vicinity of the fireworks launching area. Due to the complex planning and coordination, the event sponsor, the Astoria Fireworks Committee, was unable to provide the Coast Guard with notice of the final details until less than 30 days prior to the date of the event. If normal notice and comment procedures were followed, this rule would not become effective until after the date of the event. For this reason, following normal rulemaking procedures in this case would be impracticable and contrary to the public interest.

Background and Purpose

The Coast Guard is promulgating a temporary safety zone regulation to allow a safe fireworks display. The fireworks display is scheduled to start at 10 p.m. (PDT) on July 4, 2001. This event may result in a number of vessels congregating near the fireworks launching area. The zone is needed to protect watercraft and their occupants from safety hazards associated with fireworks display. This safety zone will be enforced by representatives of the Captain of the Port, Portland, Oregon. The Captain of the Port may be assisted by other federal agencies and local agencies.

The safety zone will encompass all waters of the Columbia River at Astoria, Oregon enclosed by the following points: North from the Oregon shoreline at 123 degrees 12 minutes north latitude, thence east to 123 degrees 49.3 minutes west longitude, thence south to the Oregon shoreline, thence westerly along the Oregon shoreline to the point of origin. (Datum NAD 1983). Entry into this safety zone is prohibited unless authorized by the Captain of the Port.

Regulatory Evaluation

This rule is not a “significant regulatory action” under section 3(f) of Executive Order 12866 and does not require an assessment of potential costs and benefits under section 6(a)(3) of that Order. The Office of Management and Budget has not reviewed this rule under that Order. This rule is not “significant” under the regulatory policies and procedures of the Department of Transportation (DOT) (44 FR 11040; February 26, 1979). The Coast Guard expects the economic impact of this proposal to be so minimal that a full Regulatory Evaluation under paragraph 10e of the regulatory policies and procedures act of DOT is unnecessary. This expectation is based on the fact that the regulated area established by the proposed regulation would encompass less than one mile of the Columbia River for a period of only two hours.

Small Entities

Under the Regulatory Flexibility Act (5 U.S.C. 601 et seq.), we considered whether this rule would have a significant economic impact on a substantial number of small entities. The term “small entities” include small businesses, not-for-profit organizations that are independently owned and operated and are not dominant in their fields, and governmental jurisdictions with populations of less than 50,000. This rule will affect the following entities, some of which may be small entities: the owners or operators of vessels intending to transit a portion of the Columbia River from 9 p.m. to 11 p.m. on July 4, 2001. This safety zone will not have significant economic impact on a substantial number of small entities for the following reasons. This rule will be in effect for only 2 hours in the evening when vessel traffic is low. The safety zone will not apply to the entire width of the river, and traffic will be allowed to pass through the zone with the permission of the Coast Guard patrol commander. Because the impacts of this proposal are expected to be so minimal, the Coast Guard certifies under 5 U.S.C. 605(b) of the Regulatory Flexibility Act (5 U.S.C. 601 et seq.) that this final rule will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking process.

Collection of Information

This rule calls for no new collection of information under the Paperwork Reduction Act of 1995 (44 U.S.C. 3501-3520).

Federalism

We have analyzed this rule under Executive Order 13132 and have determined that this final rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that, under figure 2-1, paragraph (34)(g) of Commandant Instruction M16475.1C, this rule is categorically excluded from further environmental documentation. A Categorical Exclusion is provided for temporary safety zones of less than one week in duration. This rule establishes a safety zone with a duration of two hours.

List of Subjects in 33 CFR Part 165

Harbors, Marine safety, Navigation (water), Reporting and recordkeeping requirements, Security measures, Waterways.

For the reasons discussed in the preamble, the Coast Guard amends 33 CFR part 165 as follows:

PART 165—[AMENDED]

1. The authority citation for Part 165 continues to read as follows:

Authority: 33 U.S.C. 1231; 50 U.S.C. 191, 33 CFR 1.05-1(g), 6.04-1, 6.04-6, 160.5; 49 CFR 1.46.

2. A temporary § 165.T13-005 is added to read as follows:

§ 165.T13-005 Safety Zone; Columbia River Astoria, Oregon.

(a) Location. The following area is a safety zone: All waters of the Columbia River at Astoria, Oregon encompassed by a line drawn north from the Oregon shoreline at 123 degrees 12 minutes north latitude, thence east to 123 degrees 49.3 minutes west longitude, thence south to the Oregon shoreline, thence westerly along the Oregon shoreline to the point of origin. (Datum NAD 1983).

(b) Regulations. In accordance with the general regulations in § 165.23 of this part, no person or vessel may enter or remain in this zone unless authorized by the Captain of the Port or his designated representatives.

(c) Effective date and time. This section is effective on July 4, 2001, from 9 p.m. (PDT) to 11 p.m. (PDT).

Dated: June 15, 2001.
James D. Spitzer,
Captain, U.S. Coast Guard, Captain of the Port.

[FR Doc. 01-16317 Filed 6-27-01; 8:45 am]

BILLING CODE 4910-15-P